DEPARTMENT OF COMMERCE

Foreign-Trade Zones Board

[S-191-2019]

Foreign-Trade Zone 158—Vicksburg, Mississippi; Application for Subzone; United Furniture Industries, Inc.; Nettleton and Amory (Monroe County), Mississippi

An application has been submitted to the Foreign-Trade Zones (FTZ) Board by the Greater Mississippi Foreign-Trade Zone, Inc., grantee of FTZ 158, requesting subzone status for the facilities of United Furniture Industries, Inc., located in Nettleton and Amory, Mississippi. The application was submitted pursuant to the provisions of the Foreign-Trade Zones Act, as amended (19 U.S.C. 81a-81u), and the regulations of the FTZ Board (15 CFR part 400). It was formally docketed on September 23, 2019.

The proposed subzone would consist of the following sites in Monroe County: Site 1 (52.8 acres)—30440 Old Highway 41, Nettleton; and, Site 2 (10.5 acres)—61312 Highway 278 East, Amory. No authorization for production activity has been requested at this time. The proposed subzone would be subject to the existing activation limit of FTZ 158.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is November 6, 2019. Rebuttal comments in response to material submitted during the foregoing period may be submitted during the subsequent 15-day period to November 21, 2019.

A copy of the application will be available for public inspection in the “Reading Room” section of the FTZ Board's website, which is accessible via www.trade.gov/ftz.

For further information, contact Camille Evans at Camille.Evans@trade.gov or (202) 482-2350.

Dated: September 23, 2019.
Andrew McGilvray,
Executive Secretary.

[FR Doc. 2019-21009 Filed 9-26-19; 8:45 am]

BILLING CODE 3510-DS-P